DEPARTMENT OF TRANSPORTATION

Federal Highway Administration

Environmental Impact Statement: Strafford County, New Hampshire

AGENCY: Federal Highway Administration (FHWA), DOT.

ACTION: Notice.

SUMMARY: The FHWA is issuing this notice to advise the public that we are rescinding the Notice of Intent (NOI) for a highway project that was proposed to improve access to and from the Spaulding Turnpike (NH Route 16) to the tri-city areas of Dover, Somersworth and Rochester (Exit 10) in New Hampshire. The NOI was published in the Federal Register on June 5, 1995, with the intent to publish a Draft Environmental Impact Statement. This rescission is based on a lack of available funding and project support within the New Hampshire State Transportation Improvement Plan (STIP) for the project, as originally proposed.

FOR FURTHER INFORMATION CONTACT: Mr. Jamie Sikora, New Hampshire Division, Federal Highway Administration, 53 Pleasant Street, Suite 2200, Concord, New Hampshire 03301, Telephone: (603) 410-4870.

SUPPLEMETARY INFORMATION: The FHWA, in cooperation with the New Hampshire Department of Transportation (NHDOT), is rescinding the NOI for a proposal to improve access to and from the Spaulding Turnpike (NH Route 16) to the tri-city areas of Dover, Somersworth and Rochester (Exit 10) in New Hampshire. The NOI is being rescinded in large part due to funding constraints, which led to a reduction of scope to focus on the upgrade of NH Route 108 between the Cities of Dover and Rochester through the City of Somersworth. The current proposed actions would improve the capacity along NH Rte. 108 and incorporate community multi transportation needs (bicycle, pedestrian and public transit) within this section of these seacoast communities. NHDOT has recently solicited and engaged a consultant to complete design and environmental services to address the upgrade along NH Rte. 108. Through this process, NHDOT will enter into an expanded public outreach to solicit community input on the smaller scope “Complete Street Improvements” project through the Department's Project Development process. Given the reduction in scope and the associated potential impacts of the proposed action, FHWA intends to prepare a lower-level NEPA document to determine if the project has the potential to significantly affect the quality of the human environment. If, at a future time, FHWA determines that the proposed action is likely to have a significant impact on the environment, a new NOI to prepare an EIS will be published.

Issued on: April 9, 2019.
Cynthia Vigue,
Assistant Division Administrator, Federal Highway Administration, Concord, New Hampshire.

[FR Doc. 2019-07400 Filed 4-12-19; 8:45 am]

BILLING CODE 4910-22-P